DEPARTMENT OF JUSTICE

Office of Justice Programs

[OMB Number 1121-NEW]

Agency Information Collection Activities: Proposed Collection; Comments Requested

ACTION: 60-day Notice of Information Collection Under Review: Identity Theft Supplement (ITS) to the National Crime Victimization Survey (NCVS).

The Department of Justice (DOJ), Office of Justice Programs, Bureau of Justice Statistics will be submitting the following information collection request to the Office of Management and Budget (OMB) for review and approval in accordance with the Paperwork Reduction Act of 1995. The proposed information collection is published to obtain comments from the public and affected agencies. Comments are encouraged and will be accepted for “sixty days” until October 29, 2007. This process is conducted in accordance with 5 CFR 1320.10.

If you have comments especially on the estimated public burden or associated response time, suggestions, or need a copy of the proposed information collection instrument with instructions or additional information, please contact Katrina Baum, Statistician, Bureau of Justice Statistics, Office of Justice Programs, Department of Justice, 810 7th Street, NW., Washington, DC 20531, or facsimile (202) 307-1463.

Written comments and suggestions from the public and affected agencies concerning the proposed collection of information are encouraged. Your comments should address one or more of the following four points:

—Evaluate whether the proposed collection of information is necessary for the proper performance of the functions of the agency, including whether the information will have practical utility;

—Evaluate the accuracy of the agencies, estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: New collection.

(2) Title of the Form/Collection: Identity Theft Supplement (ITS) to the National Crime Victimization Survey.

(3) Agency form number, if any, and the applicable component of the department sponsoring the collection: ITS-1. Bureau of Justice Statistics, Office of Justice Programs, Department of Justice.

(4) Affected public who will be asked or required to respond, as well as a brief abstract. Primary: Persons 16 years or older in NCVS sampled households in the United States. The Identity Theft Supplement (ITS) to the National Crime Victimization Survey collects, analyzes, publishes, and disseminates statistics on the prevalence, economic cost, and consequences of identity theft on victims.

(5) An estimate of the total number of respondents and the amount of time estimated for an average respondent to respond/reply: Approximately 62,730 persons 18 years of age or older will complete an ITS interview. The majority of respondents, approximately 58,970 will be administered only the screening portion of the ITS which is designed to filter out those people who have not been victims of repetitive harassing or unwanted contacts and therefore are not eligible to continue with the remainder of the supplement questions. We estimate the average length of the ITS interview for these individuals will be 0.05 hours (three minutes). The complement of this group of respondents are those who had such experienced identity theft. According to the estimates by the Federal Trade Commission, we expect about 6 percent or 3,764 of the respondents to report being a victim of identity theft during the two years preceding the interview. We estimate each of these interviews will take 0.25 hours (15 minutes) to complete.

(6) An estimate of the total public burden (in hours) associated with the collection: The total respondent burden is approximately 3,891 hours.

If additional information is required contact: Lynn Bryant, Department Clearance Officer, United States Department of Justice, Justice Management Division, Policy and Planning Staff, United States Department of Justice, Patrick Henry Building, Suite 1600, 601 D Street, NW., Washington, DC 20530.

Dated: August 23, 2007.
Lynn Bryant,
Department Clearance Officer, PRA, United States Department of Justice.

[FR Doc. E7-17102 Filed 8-28-07; 8:45 am]

BILLING CODE 4410-18-P